DEPARTMENT OF COMMERCE

National Oceanic and Atmospheric Administration

[RTID 0648-XE687]

Mid-Atlantic Fishery Management Council (MAFMC); Public Meeting

AGENCY: National Marine Fisheries Service (NMFS), National Oceanic and Atmospheric Administration (NOAA), Commerce.

ACTION: Notice; public meeting.

SUMMARY: The Scientific and Statistical Committee (SSC) of the Mid-Atlantic Fishery Management Council (Council) will hold a meeting.

DATES: The meeting will be held on Tuesday, March 18, 2025, starting at 12:30 p.m. and continue through 11:30 a.m. on Wednesday, March 19, 2025. See SUPPLEMENTARY INFORMATION for agenda details.

ADDRESSES: The meeting will take place over webinar using the Webex platform with a telephone-only connection option. Details on how to connect to the webinar by computer and by telephone will be available at: www.mafmc.org/ssc.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: During this meeting, the SSC will review and provide feedback on the most recent Mid-Atlantic State of the Ecosystem report and the Council's Ecosystem Approach to Fisheries Management risk assessment. The SSC will review and discuss the Climate, Ecosystems, and Fisheries Initiative (CEFI) and the latest ocean model forecasts and the potential application and utilization by the SSC. The SSC will receive an update the private recreational Tilefish permitting, reporting, and program evaluation. In addition, the SSC will discuss the activities and future products of the Overfishing Limit (OFL) Coefficient of Variation (CV) sub-group, the joint Blueline Tilefish sub-group, and the sector-specific OFL/ABC white paper sub-group. The SSC may take up any other business as necessary.

A detailed agenda and background documents will be made available on the Council's website (www.mafmc.org) prior to the meeting.

Special Accommodations

These meetings are physically accessible to people with disabilities. Requests for sign language interpretation or other auxiliary aid should be directed to Shelley Spedden, (302) 526-5251, at least 5 days prior to the meeting date.

Authority: 16 U.S.C. 1801 et seq.

Dated: February 24, 2025.
Rey Israel Marquez,
Acting Deputy Director, Office of Sustainable Fisheries, National Marine Fisheries Service.

[FR Doc. 2025-03179 Filed 2-26-25; 8:45 am]

BILLING CODE 3510-22-P